DEPARTMENT OF HEALTH AND HUMAN SERVICES

National Institutes of Health

National Heart, Lung, and Blood Institute; Amend Notice of Meeting

Notice is hereby given of a change in the meeting of the National Heart, Lung, and Blood Institute Special Emphasis Panel T32 Diversity Training Grants, December 1, 2023, 11:00 a.m. to 1:00 p.m., National Institutes of Health, 6705 Rockledge Drive, Bethesda, MD 20892 which was published in the Federal Register on October 26, 2023, FR Document No. 2023-23751, 88 FRN 73863.

This notice is being amended to change the meeting title to “The National Heart, Lung, and Blood Institute Special Emphasis Panel T32 Member Conflicts SEP.” The meeting is closed to the public.

Dated: November 20, 2023.
Melanie J. Pantoja,
Program Analyst, Office of Federal Advisory Committee Policy.

[FR Doc. 2023-26020 Filed 11-24-23; 8:45 am]

BILLING CODE 4140-01-P